DEPARTMENT OF THE INTERIOR

Fish and Wildlife Service

National Park Service

[Docket No. FWS-HQ-NWRS-2023-0180; FXRS126109AQ000-245-FF09R23000]

Federal Land Managers' Air Quality Related Values Work Group (FLAG); Final Addendum to 2010 Phase 1 Report and Response to Comments

AGENCY: Fish and Wildlife Service and National Park Service, Interior (DOI).

ACTION: Notice of availability.

SUMMARY: We, the U.S. Fish and Wildlife Service, in cooperation with the National Park Service and the U.S. Department of Agriculture's Forest Service (the agencies), announce the availability of the final addendum to the Federal Land Managers' Air Quality Related Values Work Group's (FLAG's) Phase 1 Report, which the agencies last revised in 2010 (FLAG 2010 report), and responses to comments on the draft addendum.

DATES: The addendum to the FLAG 2010 Phase 1 Report is effective May 29, 2024.

ADDRESSES: The final addendum to the FLAG 2010 report, responses to comments on the draft addendum, and other materials are available for public inspection at https://www.regulations.gov in Docket No. FWS-HQ-NWRS-2023-0180.

FOR FURTHER INFORMATION CONTACT: Jaron Ming, Chief, Branch of Air and Water Resources, by phone at 720-926-3528 or via email at jaron_ming@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

The United States Department of the Interior's U.S. Fish and Wildlife Service (FWS), in cooperation with the National Park Service (NPS) and the U.S. Department of Agriculture's U.S. Forest Service (USFS) (collectively, the agencies), announce the availability of the final addendum to the Federal Land Managers' Air Quality Related Values Work Group's (FLAG's) Phase 1 Report, which the agencies last revised in 2010 (FLAG 2010 report). The addendum adds a contextual consideration provision to the FLAG 2010 report concerning the analysis by Federal land managers (FLMs) of temporary emissions for overall low-emitting facilities.

Background

The Federal Land Managers' Air Quality Related Values Work Group (FLAG) was formed by the NPS, FWS, and USFS to (1) develop a more consistent and objective approach for these agencies' FLMs to evaluate air pollution effects on their air quality related values (AQRVs) in Federal class I areas, as defined by the Clean Air Act, and (2) provide State permitting authorities and potential permit applicants consistency on how to assess the impacts of new and existing sources on AQRVs.

The FLAG effort focuses on the effects of the air pollutants that could affect the health and status of resources in areas managed by the agencies, primarily such pollutants as ozone, particulate matter, nitrogen dioxide, sulfur dioxide, nitrates, and sulfates.

The initial FLAG Phase 1 Report was published in 2000. On October 27, 2010, NPS, in cooperation with FWS and USFS, published a revised FLAG report (75 FR 66125).

Comments Received and Responses

On November 28, 2023, the agencies published a notice of availability and request for comments on the draft addendum to the FLAG Phase 1 Report (88 FR 83144). In response to the request for comments, we received comments from two entities. We reviewed and considered the comments prior to finalizing the addendum.

Comment 1: Epsilon Associates, Inc., expressed support for the addendum, noting the need for contextual clarity on short-lived emissions.

Response: We acknowledge the comment and appreciate the support for the addendum.

Comment 2: The Alaska Department of Environmental Conservation suggested including additional criteria concerning air permitting analysis and a date at which the addendum terminates. The commenter also sought clarity on other areas within the addendum. The following text summarizes those comments and our responses:

A. The addendum should include criteria that align with air permitting analysis and should use generally accepted engineering practices for air permitting analysis of project emissions.

Response: The addendum does not modify any language or guidance in FLAG regarding general engineering practices. However, FWS agrees with the commenter that the FLM analysis should align with the air permitting analysis to the extent the analysis provides information relevant to AQRVs at the potentially impacted class I area. The draft addendum adds a contextual criterion for temporary air emissions that would occur alongside any considerations of generally accepted practices for emissions, modeling, and analysis.

B. It is not clear if the temporary emission criteria conflict with Environmental Protection Agency (EPA) guidance on a State's ability to make reasonable progress determinations.

Response: To address the commenter's request for clarity, the addendum adds a contextual criterion for FLMs to consider temporary emissions. It does not alter a permit authority's process to make reasonable progress determinations under the Regional Haze Rule or New Source Review, Prevention of Significant Deterioration determinations. Additionally, the addendum is consistent with existing regulations, as it applies only to the FLMs' discretionary determinations, as authorized under the Clean Air Act and implementing regulations.

C. It is not clear whether the outlined criteria are consistent with requirements under the Clean Air Act or EPA regulations. The comment questions whether the addendum introduces “extra-regulatory” factors, relying on the FLM's best professional judgment rather than on permitting requirements.

Response: The FLMs use these criteria to evaluate the effect a project may have on the AQRVs in a class I area and how any predicted AQRV impacts may affect the FLM's ability to manage public lands consistent with statutory mandates for the area (e.g., to provide for resource protection and visitor experience). The addendum does not alter a permit authority's Clean Air Act regulatory role in evaluating FLM determinations.

D. The addendum should include a sunset date.

Response: While the guidance does not include a sunset date in the addendum, FWS, in coordination with NPS and USFS, will periodically evaluate whether this addendum continues to articulate the FLM's contextual considerations for temporary emission increases.

This notice announces the availability of complete responses to comments on the draft addendum and the final addendum to the FLAG 2010 revision to add a contextual consideration to the FLAG 2010 report concerning the FLM's analysis of temporary emissions for overall low-emitting facilities. The final addendum does not change the FLM's role or affirmative responsibilities under the Clean Air Act. The final addendum is expected to assist FLAG 2010 report users by describing how the FLMs, as part of their responsibilities under the Clean Air Act, will consider temporary emissions for overall low-emitting facilities in analyzing effects to AQRVs in Federal class I areas.

Authority

We publish this notice under the authority of the Clean Air Act of 1970, as amended (42 U.S.C. 7401 et seq.).

Shannon A. Estenoz,
Assistant Secretary for Fish and Wildlife and Parks.

[FR Doc. 2024-11742 Filed 5-28-24; 8:45 am]

BILLING CODE 4333-15-P